SMALL BUSINESS ADMINISTRATION

Disaster Declarations of Economic Injury for the Coronavirus (COVID-19); Administrative Declarations of Economic Injury Disasters for the Entire United States and U.S. Territories

AGENCY: U.S. Small Business Administration.

ACTION: Correction.

SUMMARY: This is a correction of the notice of Economic Injury Disaster Loan (EIDL) declarations issued for each State and Territory of the U.S.

Incident: Coronavirus (COVID-19).

Incident Period: 01/31/2020 and continuing.

DATES: Issued between 03/16/2020 to 03/21/2020.

Economic Injury (EIDL) Loan Application Deadline Date: 12/31/2020.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: This Notice is to correct the deadline date to file an application until 12/31/2020. This Notice is also corrected to remove the credit elsewhere limitation. As a result of the Administrator's EIDL declarations, applications for economic injury disaster loans may be filed at the address listed above or other locally announced locations. For additional information, please visit SBA.gov/disaster. For questions, please contact the SBA disaster assistance customer service center at 1-800-659-2955 (TTY: 1-800-877-8339) or email disastercustomerservice@sba.gov.

The following United States and U.S. Territories have been determined to be adversely affected by the disaster:

Coronavirus (COVID-19) EIDL Disaster Declarations
State | Declaration # | Disaster # | Disaster description | Declaration date | Deadline date
ALABAMA | 16364 | AL-00104 | Coronavirus (COVID-19) | 03/20/2020 | 12/31/2020
ALASKA | 16386 | AK-00046 | Coronavirus (COVID-19) | 03/21/2020 | 12/31/2020
AMERICAN SAMOA | 16389 | AS-00008 | Coronavirus (COVID-19) | 03/21/2020 | 12/31/2020
ARIZONA | 16350 | AZ-00065 | Coronavirus (COVID-19) | 03/19/2020 | 12/31/2020
ARKANSAS | 16372 | AR-00109 | Coronavirus (COVID-19) | 03/20/2020 | 12/31/2020
CALIFORNIA | 16332 | CA-00313 | Coronavirus (COVID-19) | 03/16/2020 | 12/31/2020
COLORADO | 16367 | CO-00113 | Coronavirus (COVID-19) | 03/19/2020 | 12/31/2020
CONNECTICUT | 16335 | CT-00046 | Coronavirus (COVID-19) | 03/16/2020 | 12/31/2020
DELAWARE | 16342 | DE-00024 | Coronavirus (COVID-19) | 03/18/2020 | 12/31/2020
DISTRICT OF COLUMBIA | 16336 | DC-00008 | Coronavirus (COVID-19) | 03/17/2020 | 12/31/2020
FLORIDA | 16353 | FL-00152 | Coronavirus (COVID-19) | 03/18/2020 | 12/31/2020
GEORGIA | 16347 | GA-00116 | Coronavirus (COVID-19) | 03/18/2020 | 12/31/2020
GUAM | 16388 | GU-00008 | Coronavirus (COVID-19) | 03/21/2020 | 12/31/2020
HAWAII | 16369 | HI-00056 | Coronavirus (COVID-19) | 03/20/2020 | 12/31/2020
IDAHO | 16379 | ID-00079 | Coronavirus (COVID-19) | 03/20/2020 | 12/31/2020
ILLINOIS | 16370 | IL-00059 | Coronavirus (COVID-19) | 03/19/2020 | 12/31/2020
INDIANA | 16348 | IN-00073 | Coronavirus (COVID-19) | 03/18/2020 | 12/31/2020
IOWA | 16382 | IA-00091 | Coronavirus (COVID-19) | 03/21/2020 | 12/31/2020
KANSAS | 16385 | KS-00132 | Coronavirus (COVID-19) | 03/21/2020 | 12/31/2020
KENTUCKY | 16377 | KY-00080 | Coronavirus (COVID-19) | 03/20/2020 | 12/31/2020
LOUISIANA | 16351 | LA-00101 | Coronavirus (COVID-19) | 03/19/2020 | 12/31/2020
MAINE | 16334 | ME-00052 | Coronavirus (COVID-19) | 03/16/2020 | 12/31/2020
MARYLAND | 16376 | MD-00041 | Coronavirus (COVID-19) | 03/19/2020 | 12/31/2020
MASSACHUSETTS | 16344 | MA-00078 | Coronavirus (COVID-19) | 03/18/2020 | 12/31/2020
MICHIGAN | 16356 | MI-00081 | Coronavirus (COVID-19) | 03/19/2020 | 12/31/2020
MINNESOTA | 16365 | MN-00080 | Coronavirus (COVID-19) | 03/20/2020 | 12/31/2020
MISSISSIPPI | 16362 | MS-00122 | Coronavirus (COVID-19) | 03/20/2020 | 12/31/2020
MISSOURI | 16387 | MO-00104 | Coronavirus (COVID-19) | 03/21/2020 | 12/31/2020
MONTANA | 16340 | MT-00129 | Coronavirus (COVID-19) | 03/17/2020 | 12/31/2020
NEBRASKA | 16371 | NE-00081 | Coronavirus (COVID-19) | 03/20/2020 | 12/31/2020
NEVADA | 16341 | NV-00057 | Coronavirus (COVID-19) | 03/17/2020 | 12/31/2020
NEW HAMPSHIRE | 16343 | NH-00049 | Coronavirus (COVID-19) | 03/18/2020 | 12/31/2020
NEW JERSEY | 16349 | NJ-00057 | Coronavirus (COVID-19) | 03/18/2020 | 12/31/2020
NEW MEXICO | 16339 | NM-00064 | Coronavirus (COVID-19) | 03/17/2020 | 12/31/2020
NEW YORK | 16346 | NY-00197 | Coronavirus (COVID-19) | 03/19/2020 | 12/31/2020
NORTH CAROLINA | 16345 | NC-00115 | Coronavirus (COVID-19) | 03/18/2020 | 12/31/2020
NORTH DAKOTA | 16366 | ND-00080 | Coronavirus (COVID-19) | 03/20/2020 | 12/31/2020
COMMONWEALTH of NORTHERN MARIANA ISLANDS | 16390 | MP-00013 | Coronavirus (COVID-19) | 03/21/2020 | 12/31/2020
OHIO | 16355 | OH-00077 | Coronavirus (COVID-19) | 03/19/2020 | 12/31/2020
OKLAHOMA | 16373 | OK-00135 | Coronavirus (COVID-19) | 03/20/2020 | 12/31/2020
OREGON | 16378 | OR-00101 | Coronavirus (COVID-19) | 03/20/2020 | 12/31/2020
PENNSYLVANIA | 16360 | PA-00104 | Coronavirus (COVID-19) | 03/19/2020 | 12/31/2020
PUERTO RICO | 16380 | PR-00036 | Coronavirus (COVID-19) | 03/20/2020 | 12/31/2020
RHODE ISLAND | 16337 | RI-00021 | Coronavirus (COVID-19) | 03/17/2020 | 12/31/2020
SOUTH CAROLINA | 16352 | SC-00067 | Coronavirus (COVID-19) | 03/19/2020 | 12/31/2020
SOUTH DAKOTA | 16374 | SD-00102 | Coronavirus (COVID-19) | 03/20/2020 | 12/31/2020
TENNESSEE | 16375 | TN-00119 | Coronavirus (COVID-19) | 03/20/2020 | 12/31/2020
TEXAS | 16381 | TX-00544 | Coronavirus (COVID-19) | 03/20/2020 | 12/31/2020
US VIRGIN ISLANDS | 16383 | VI-00015 | Coronavirus (COVID-19) | 03/21/2020 | 12/31/2020
UTAH | 16338 | UT-00066 | Coronavirus (COVID-19) | 03/17/2020 | 12/31/2020
VERMONT | 16361 | VT-00040 | Coronavirus (COVID-19) | 03/20/2020 | 12/31/2020
VIRGINIA | 16359 | VA-00087 | Coronavirus (COVID-19) | 03/19/2020 | 12/31/2020
WASHINGTON | 16333 | WA-00083 | Coronavirus (COVID-19) | 03/16/2020 | 12/31/2020
WEST VIRGINIA | 16354 | WV-00052 | Coronavirus (COVID-19) | 03/19/2020 | 12/31/2020
WISCONSIN | 16363 | WI-00072 | Coronavirus (COVID-19) | 03/20/2020 | 12/31/2020
WYOMING | 16368 | WY-00049 | Coronavirus (COVID-19) | 03/20/2020 | 12/31/2020

The Interest Rates are:

| Percent
Small Businesses and Small Agricultural Cooperatives | 3.750
Non-Profit Organizations | 2.750

(Catalog of Federal Domestic Assistance Number 59008)

Jovita Carranza,
Administrator.

[FR Doc. 2020-07501 Filed 4-8-20; 8:45 am]

BILLING CODE 8026-03-P